DEPARTMENT OF COMMERCE

National Oceanic and Atmospheric Administration

National Estuarine Research Reserve System: Sediment Retention System in Goat Canyon Creek and Watershed at Tijuana National Estuarine Research Reserve

AGENCY: Estuarine Reserves Division, Office of Ocean and Coastal Resource Management, National Ocean Service, National Oceanic and Atmospheric Administration, U.S. Department of Commerce.

ACTION: Notice of availability of a draft Environmental Impact Statement/Environmental Impact Report on a proposed sediment retention system in the Goat Canyon Creek and watershed at the Tijuana River National Estuarine Research Reserve, Imperial Beach, California; and notice of public hearings on this project.

SUMMARY: Pursuant to the National Environmental Policy Act and the California Environmental Quality Act, the National Ocean Service (NOS), in cooperation with California State Parks, has completed the preparation of a joint Draft Environmental Impact Statement/Environmental Impact Report (EIS/EIR) addressing the potential effects on the human and natural environment that may result from construction of sedimentation, flood control and other facilities within and adjacent to Goat Canyon, and the elevation and/or realignment of Monument Road through Border Field State Park lands. The purpose of these proposed facilities is to enhance the existing Goat Canyon Creek and its natural habitat communities, including the Tijuana River Estuary, through the management of sediment within the canyon and on the adjacent alluvial fan.

The proposed project is in conformance with the Final Goat Canyon/Cañon de los Laureles Enhancement Plan prepared by the Southwest Wetlands Interpretive Association (SWIA). As a result of the construction of sedimentation basins, it is anticipated that Goat Canyon Creek, its watershed, and the Tijuana River Estuary will be enhanced.

The draft EIS/EIR is available for public review and comment. All comments received, including names and addresses, will become part of the administrative record and be made available to the public.

NOS will hold a public hearing from 1:30 p.m. to 3:30 p.m. on November 7, 2001, at the City of Imperial Beach City Hall Community Room, 825 Imperial Beach Boulevard, Imperial Beach, California 91932. The views of interested persons and organizations on the adequacy of the joint Draft EIS/EIR are solicited, and may be expressed orally and/or in written statements. Presentations by the public will be scheduled on a first-come, first-heard basis, and may be limited to a maximum of five (5) minutes. The time allotment may be extended before the hearing after the number of speakers has been determined. All comments received at the hearing will be considered in the preparation of the Final EIS/EIR.

These meetings are physically accessible to people with disabilities. Requests for sign language interpretation or other auxiliary aids should be directed to Mayda Winter, Goat Canyon Enhancement Project, Southwest Wetlands Interpretive Association, 925 Seacoast Drive, Imperial Beach, California, 91932, tel. 619-575-0550.

DATES: The comment period for the draft joint EIS/EIR will end on Monday, November 26, 2001. All written comments received by this deadline will be considered in the preparation of the FEIS/FEIR.

ADDRESSES: Written comments on the joint Draft EIS/EIR should be sent to Nina Garfield, NOAA, Estuarine Reserves Division,SSMC-4, 11th Floor, 1305 East-West Highway, Silver Spring, Maryland, 20910-3281.

FOR FURTHER INFORMATION CONTACT: Mayda Winter, Goat Canyon Enhancement Project, Southwest Wetlands Interpretive Association, 925 Seacoast Drive, Imperial Beach, California, 91932, tel. (619) 575-0550.

SUPPLEMENTARY INFORMATION: Goat Canyon Creek is located in the far western portion of the greater Tijuana River Watershed. The watershed is characterized by steep slopes, sandy soils with cobbles, pockets of native coastal sage scrub, riparian vegetation, and a high level of human-induced disturbance, especially during the last 20 to 30 years. A prominent result of changes in the watershed has been a significant increase in sediment yield in response to higher volumes of runoff and an increased sediment supply throughout the watershed. Increased sedimentation has adversely affected the local habitat communities of Goat Canyon and downstream within the Tijuana River Estuary. By the mid-1980s, it was estimated that erosion and sedimentation had resulted in the loss of 30 acres of intertidal wetland area in the Tijuana River Estuary. The composition and distribution of native habitat communities along the creek and on the alluvial fan have been altered, as has the morphology of the creek. Further, during storm events, sediment is deposited on Monument Road, which in turn blocks public access to Border Field State Park and impedes the U.S. Border Patrol.

On August 10, 2000, the National Ocean Service published in the Federal Register a Notice of Intent to prepare a joint Environmental Impact Statement/Environmental Impact Report [Vol. 65 No. 155, 48971-48972]. The stated intent of the proposed project was to enhance the existing Goat Canyon Creek and its natural habitat communities, including the Tijuana River Estuary, through the management of sediment within the canyon and on the adjacent alluvial fan.

The draft EIS/EIR examines the potential effects of the No Project Alternative and four project alternatives for construction of a sedimentation retention system within Goat Canyon and the alluvial fan. NOS has identified Alternative D as the Preferred Alternative based on an evaluation of the impacts and comparison between the alternatives. Alternative D features an in-canyon diversion structure and sedimentation basin system consisting of two basins in series to capture the flow in Goat Canyon Creek. The system has been designed to contain the full 100-year flood event. The Preferred Alternative also involves construction of access roads around the basins, staging areas adjacent to the basins, a visual berm located between the basins and Monument Road, options for improvements to Monument Road and a multi-purpose trail, and creation of wetland habitat. The preferred option for the road and trail has not been determined at this time. The Preferred Alternative would be the most efficient at capturing sediment and would result in the least impacts to sensitive wetland habitats and endangered species.

Document Availability

Copies of the draft EIS/EIR are available for review at the California State Parks, San Diego Coast District Office, 9609 Waples, Suite 200, San Diego, California, 92108, (858) 642-4200, the Tijuana River National Estuarine Research Reserve at 301 Caspian Way, Imperial Beach, California 91932, (619) 575-3613, and at the Imperial Beach Public Library, 810 Imperial Beach Boulevard, Imperial Beach, 91932, (619) 424-6981.

Federal Domestic Assistance Catalog Number 11.420 (Coastal Zone Management) Research Reserves
Dated: October 5, 2001.
Jamison S. Hawkins,
Deputy Assistant Administrator for Ocean Services and Coastal Zone Management.

[FR Doc. 01-25657 Filed 10-11-01; 8:45 am]

BILLING CODE 3510-08-P